DEPARTMENT OF TRANSPORTATION

Federal Aviation Administration

14 CFR Part 71

[Docket No. FAA-2005-21908; Airspace Docket No. 05-AGL-6]

RIN 2120-AA66

Revision of VOR Federal Airways V-9, V-50, V-67, V-69, V-129, V-173 and V-233; and Jet Routes J-35, J-80, J-101 and J-137; Springfield, IL

AGENCY: Federal Aviation Administration (FAA), DOT.

ACTION: Final rule.

SUMMARY: This action revises Very High Frequency Omni-directional Range (VOR) Federal Airways V-9, V-50, V-67, V-69, V-129, V-173 and V-233; and Jet Routes J-35, J-80, J-101 and J-137 over the Springfield, IL area. The FAA is taking this action due to the relocation of the Capital VOR/Tactical Air Navigation (VORTAC) and the renaming of the “Capital VORTAC” to the “Spinner VORTAC” to enhance the management of aircraft operations over the Springfield, IL area.

DATES: Effective 0901 UTC, October 27, 2005.

FOR FURTHER INFORMATION CONTACT: Steve Rohring, Airspace and Rules, Office of System Operations and Safety, Federal Aviation Administration, 800 Independence Avenue, SW., Washington, DC 20591; telephone: (202) 267-8783.

SUPPLEMENTARY INFORMATION:

History

On September 2, 2003, the FAA published in the Federal Register a notice of proposed rulemaking (NPRM) proposing to realign V-233 northeast of the Capital VORTAC (68 FR 52150). This change was needed due to the pending relocation of the Capital VORTAC. This relocation will result in a change of the VORTAC radials used in the legal description of V-233; but would not have changed the legal description of any other airways or jet routes because, at the time that the NPRM was issued, the FAA did not plan to change the name of the VORTAC. Interested parties were invited to participate in this rulemaking effort by submitting written comments on the proposal. No comments were received in response to the proposal.

Subsequent to the issuance of the NPRM and in the interest of safety, a decision was made to change the name of the “Capital VORTAC” to the “Spinner VORTAC”. Because the name of the VORTAC is contained in the legal description of Federal Airways V-9, V-50, V-67, V-69, V-129, V-173 and V-233; and Jet Routes J-35, J-80, J-101 and J-137, the legal descriptions must be changed.

Federal airways are published in paragraph 6010(a) of FAA Order 7400.9M dated August 30, 2004, and effective September 16, 2004, which is incorporated by reference in 14 CFR 71.1. The Federal airways listed in this document will be published subsequently in the order.

The Rule

This action amends Title 14 Code of Federal Regulations (14 CFR) part 71 by revising the legal descriptions for Federal Airways V-9, V-50, V-67, V-69, V-129, V-173 and V-233; and Jet Routes J-35, J-80, J-101 and J-137 over the Springfield, IL, area. The FAA is taking this action due to the relocation and renaming of the Capitol VORTAC and to enhance the management of aircraft operations over the Springfield, IL area.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034, February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 6010(a) Domestic VOR Federal Airways

* * * * *

V-9 (Revised)

From Leeville, LA; McComb, MS; Jackson, MS; Sidon, MS; Marvell, AR; Gilmore, AR; Malden, MO; Farmington, MO; St. Louis, MO; Spinner, IL; Pontiac, IL; INT Pontiac, IL 343° and Rockford, IL, 169° radials; Rockford; Janesville, WI; Madison, WI; Oshkosh, WI; Green Bay, WI; Iron Mountain, MI; to Houghton, MI.

* * * * *

V-50 (Revised)

From Hastings, NE; Pawnee City, NE; St. Joseph, MO; Kirksville, MO; Quincy, IL; Spinner, IL; Decatur, IL; Terre Haute, IN; Brickyard, IN; Dayton, OH.

* * * * *

V-67 (Revised)

From Choo Choo, GA; Shelbyville, TN; Graham, TN; Cunningham, KY; Marion, IL; Centralia, IL; INT Centralia 010° and Vandalia, IL, 162° radials; Vandalia; Spinner, IL; Burlington, IA; Iowa City, IA; Cedar Rapids, IA; Waterloo, IA; Rochester, MN.

* * * * *

V-69 (Revised)

From El Dorado, AR; Pine Bluff, AR; INT Pine Bluff 038° and Walnut Ridge, AR, 187° radials; Walnut Ridge; Farmington, MO; Troy, IL; Spinner, IL; Pontiac, IL; to Joliet, IL.

* * * * *

V-129 (Revised)

From Spinner, IL; Peoria, IL; Davenport, IA; Dubuque, IA; INT Dubuque 348° and Nodine, MN, 150° radials; Nodine; Eau Claire, WI; Duluth, MN; Hibbing, MN; International Falls, MN; INT International Falls 335° radial and the United States/Canadian border.

* * * * *

V-173 (Revised)

From Spinner, IL; to Peotone, IL.

* * * * *

V-233 (Revised)

From Spinner, IL; INT Spinner 062° and Roberts, IL, 233° radials; Roberts; Knox, IN; Goshen, IN; Litchfield, MI; Lansing, MI; Mount Pleasant, MI; INT Mount Pleasant 351° and Gaylord, MI, 207° radials; Gaylord; to Pellston, MI.

* * * * *

Paragraph 2004 Jet Routes

* * * * *

J-35 (Revised)

From Leeville, LA; McComb, MS; Sidon, MS; Memphis, TN; Farmington, MO; St. Louis, MO; Spinner, IL; Pontiac, IL; Joliet, IL; to Northbrook, IL.

* * * * *

J-80 (Revised)

From Oakland, CA; Manteca, CA; Coaldale, NV; Wilson Creek, NV; Milford, UT; Grand Junction, CO; Red Table, CO; Falcon, CO; Goodland, KS; Hill City, KS; Kansas City, MO; Spinner, IL; Brickyard, IN; Bellaire, OH; INT Bellaire 090° and East Texas, PA, 240° radials; East Texas; Sparta, NJ; Barnes, MA; to Bangor, ME.

* * * * *

J-101 (Revised)

From Humble, TX, Lufkin, TX; Elm Grove, LA; Little Rock, AR; St. Louis, MO; Spinner, IL; Pontiac, IL; Joliet, IL; Northbrook, IL; Badger, WI; Green bay, WI; to Sault Ste Marie, MI.

* * * * *

J-137 (Revised)

From Spinner, IL; Farmington, MO; Walnut Ridge, AR; to Little Rock, AR.

* * * * *

Issued in Washington, DC, on July 29, 2005.
Edith V. Parish,
Acting Manager, Airspace and Rules.

[FR Doc. 05-15557 Filed 8-5-05; 8:45 am]

BILLING CODE 4910-13-P